DEPARTMENT OF JUSTICE

Antitrust Division

Notice Pursuant to The National Cooperative Research and Production Act of 1993—Maritime Sustainment and Technology Innovation Consortium

Notice is hereby given that, on October 11, 2021, pursuant to Section 6(a) of the National Cooperative Research and Production Act of 1993, 15 U.S.C. 4301 et seq. (“the Act”), Maritime Sustainment and Technology Innovation Consortium (“MSTIC”) has filed written notifications simultaneously with the Attorney General and the Federal Trade Commission disclosing changes in its membership. The notifications were filed for the purpose of extending the Act's provisions limiting the recovery of antitrust plaintiffs to actual damages under specified circumstances. Specifically, 11 Cyber Services LLC, Mt Pleasant, SC; A.T. Kearney Public Sector and Defense Services LLC, Arlington, VA; Ace Electronics Defense Systems LLC, Aberdeen Proving Ground, MD; Adaptive Intelligence Corporation, Banks, OR; Advanced Systems Supportability Engineering Technologies and Tools (ASSETT, Inc.), Manassas, VA; Aerojet Rocketdyne Inc., Huntsville, AL; Alluvionic, Inc., Melbourne, FL; American Bureau of Shipping (ABS), Spring, TX; American Defense International, Washington, DC; and American Superconductor (AMSC), Ayer, MA; American Systems Corporation, Chantilly, VA; ANDRO Computational Solutions LLC, Rome, NY; Applied Engineering Concepts, Inc., Eldersburg, MD; Applied Physical Sciences Corporation, Groton, CT; Applied Research in Acoustic LLC, Washington, DC; Aptima, Inc., Woburn, MA; Ashwin-Ushas Corporation, Holmdel, NJ; Attila Security, Columbia, MD; BAE Systems, Merrimack, NH; Barber-Nichols, LLC, Arvada, CO; Beast Code LLC, Fort Walton Beach, FL; BH Technology LLC, Pamona, NY; Bigelow Family Holdings LLC dba Mettle Ops, Sterling Heights, MI; BMORE VIRTUAL LLC dba Balti Virtual, Baltimore, MD; BMT Designers & Planners, Arlington, VA; Booz Allen Hamilton Inc., McLean, VA; Bowhead Turnkey Manufacturing, Plano, TX; C Z and Associates, Inc., Blacksburg, VA; Cape Henry Associates, Inc., Virginia Beach, VA; Cardinal Engineering LLC, Washington, DC; Cervello Technologies LLC, Safety Harbor, FL; Cisco Systems, San Jose, CA; Clinkenbeard & Associates, Inc., South Beloit, IL; CodeMettle, LLC, Atlanta, GA; CogniTech Corporation, Salt Lake City, UT; Colorado Engineering, Inc., Colorado Springs, CO; Colvin Run Networks, Inc., Leesburg, VA; Concurrent Technologies Corporation, Johnstown, PA; Creare LLC, Hanover, NH; D&K Engineering, San Diego, CA; Dark Wolf Solutions LLC, Herndon, VA; DataCrunch Lab, LLC, Cary, NC; Dell, Round Rock, TX; Delphinus Engineering, Inc., Eddystone, PA; Design Interactive, Inc., Orlando, FL; DMS South, Lancaster, TX; Dragonfly Pictures, Inc., Essington, PA; Drexel University, Philadelphia, PA; DRS Laurel Technologies Naval Electronics, Johnstown, PA; DY4, Inc. dba Curtiss-Wright Defense Solutions, Ashburn, VA; EC America, Inc., McLean, VA; DO Western, Salt Lake City, UT; EHS Technologies Corporation, Moorestown, NJ; ElectraWatch, A Company of Austal USA, Charlottesville, VA; Epsilon Systems Solutions, Inc., San Diego, CA; Ernst & Young LLP, New York, NY; Exlar Corp, dba Curtiss-Wright Corporation, Chanhassen, MN; Fabrisonic LLC, Columbus, OH; Fairbanks Morse Defense, Beloit, WI; Florida State University Center for Advanced Power Systems, Tallahassee, FL; General Atomics Electromagnetic Systems, San Diego, CA; General Dynamics Mission Systems, Inc., Fairfax, VA; General Dynamics Ordnance and Tactical Systems, Inc., St. Petersburg, FL; General Technical Services LLC, Wall Township, NJ; General Tool Company, Cincinnati, OH; George Consulting, Ltd., Charleston, SC; GIRD Systems, Inc., Cincinnati, OH; Global Circuit Innovations, Colorado Springs, CO; GLX Power Systems Inc., Cleveland, OH; Granite State Manufacturing, Manchester, NH; Green Expert Technology, Inc., Haddonfield, NJ; Gryphon Technologies, Washington, DC; GSD LLC, Williamsburg, VA; Guide Star Engineering LLC, Kapolei, HI; Guidehouse LLP, Falls Church, VA; GuidePoint Security, Herndon, VA; Hepburn and Sons LLC, Manassas, VA; Herdt Consulting, Inc., Chelsea, AL; Hewlett Packard Enterprise Company, Reston, VA; Hexagon US Federal, Inc., Chantilly, VA; HII Fleet Support Group LLC, Virginia Beach, VA; Huckworthy LLC, Washington, DC; Huntington Ingalls Industries, Inc., Newport News, VA; Hydrasearch Company LLC, Stevensville, MD; IDENTIFY3D, Inc., San Francisco, CA; II-VI Aerospace & Defense, Murrieta, CA; In-Depth Engineering Corporation, Fairfax, VA; Integer Technologies LLC, Columbia, SC; International Business Machines (IBM), Bethesda, MD; International TechneGroup Incorporated, Milford, OH; ITA International LLC, Newport News, VA; ITL LLC, Hampton, VA; JC3 LLC, Rockbridge Baths, VA; JF Taylor, Inc., Lexington Park, MD; Juno Technologies, Inc., Rancho Santa Fe, CA; Kern Technology Group LLC, Virginia Beach, VA; Keysight Technologies, Colorado Springs, CO; KIHOMAC, Inc., Reston, VA; KPMG LLP, McLean, VA; L3 Technologies, Inc. Communication Systems—East, Camden, NJ; L3 Unidyne, Inc., Norfolk, VA; La Jolla Logic, Inc., San Diego, CA; Leidos, Reston, VA; Leonardo DRS Naval Power Systems, Milwaukee, WI; LeWiz Communications, Inc., San Jose, CA; Life Cycle Engineering, Inc., North Charleston, SC; LMI Consulting LLC, Tysons, VA; Lockheed Martin Corporation—Missiles and Fire Control, Orlando, FL; Logistic Services International, Inc., Jacksonville, FL; Main Sail LLC, Chesterland, OH; Makai Ocean Engineering, Inc., Waimanalo, HI; Maritime Applied Physics Corporation, Baltimore, MD; Maritime Planning Associates, Newport, RI; McCormick Stevenson Corporation, Clearwater, FL; McKean Defense Group LLC, Philadelphia, PA; Mercury Systems, Inc., Andover, MA; Metal Improvement Company LLC dba Para Tech Coating, Laguna Hills, CA; MI Technical Solutions, Chesapeake, VA; Micro Focus Government Solutions LLC, Vienna, VA; Mide Technology Corporation, Woburn, MA; Motorola Solutions, Linthicum Heights, VA; NAG LLC, Norfolk, VA; NanoVMs, Inc., San Francisco, CA; NASCENTechnology Manufacturing, Inc., Watertown, SD; NCI Information Systems, Inc., Reston, VA; NDI Engineering Company, Thorofare, NJ; NetApp US Public Sector Inc., Vienna, VA; New Mexico Institute of Mining and Technology, Socorro, NM; nGAP, Inc., Bonsall, CA; Northrop Grumman Mission Systems, Linthicum, MD; Nova Power Solutions, Inc., Sterling, VA; NTA, Inc., Camden, AR; NTS Technical Systems, Camden, AR; NuWave Solutions LLC, McLean, VA; Oceaneering International, Inc., Hanover, MD; Oceanetics, Inc., Annapolis, MD; Open Source Systems LLC, Suwanee, GA; Opto-Knowledge Systems, Inc., Torrance, CA; Orbis Sibro, Inc., Charleston, SC; Orbital Research, Inc., Cleveland, OH; Parts Life, Inc., Moorestown, NJ; Peregrine Technical Solutions LLC, Yorktown, VA; Persistent Systems LLC, New York, NY; Perspecta Labs, Basking Ridge, NJ; Pinnacle Solutions, Inc., Huntsville, AL; Polaris Sensor Technologies, Huntsville, AL; Precision Custom Components, York, PA; Progeny Systems Corporation, Manassas, VA; Prometheus Inc., Sharon, MA; PURVIS Systems Incorporated, Middletown, RI; QED Systems, Inc., Virginia Beach, VA; QinetiQ, Inc., Lorton, VA; R Squared Solutions LLC, Chesapeake, VA; Redfish Trading LLC, San Antonio, TX; ReLogic Research, Huntsville, AL; Research Innovations Incorporated, Alexandria, VA; Rhoads Industries, Inc., Philadelphia, PA; Robbins-Gioia LLC, Alexandria, VA; RWC LLC, Annapolis, MD; Sabre Systems, Inc., Warrington, PA; Science Application International Corporation, Reston, VA; ERCO, Inc., Herndon, VA; Siemens Energy, Inc., Alpharetta, GA; SitScape, Inc., Vienna, VA; SOLUTE, Inc., San Diego, CA; Smart Information Flow Technologies dba SIFT, Minneapolis, MN; Sonalysts, Inc., Waterford, CT; Southeastern Computer Consultants, Inc., King George, VA; Southwest Research Institute, San Antonio, TX; Specialty Systems, Inc., Toms River, NJ; Stottler Henke Associates, Inc., San Mateo, CA; SURVICE Engineering Company LLC, Belcamp, MD; Systima Technologies, Inc., Kirkland, WA; TDI Technologies, Inc., King of Prussia, PA; Tech Resources, Inc., Milford, NH; Technical Systems Integrators, Inc., Longwood, FL; Technology Advancement Group, Inc., Dulles, VA; Techtrend, Fairfax, VA; Temple Allen Industries, Rockville, MD; Texas Tech University, Lubbock, TX; The Charles Stark Draper Laboratory, Inc., Cambridge, MA; The Informatics Applications Group, Inc., Reston, VA; The Metamorphosis Group, Inc., Vienna, VA; The Pennsylvania State University, University Park, PA; TIME Systems LLC, Dumfries, VA; TPL, Inc., Albuquerque, NM; Transformational Security LLC, Columbia, MD; Trident Research LLC, Austin, TX; Tyto Government Solutions, Inc., Oakton, VA; Ultra Electronics Ocean Systems, Inc., Braintree, MA; University of Florida, Florida Applied Research in Engineering (FLARE), Gainesville, FL; Valkyrie Enterprises, Inc., Virginia Beach, VA; Vigor Marine LLC, Portland, OR; Visionary Product, Inc. dba VPI Technology Group, Draper, UT; W R Systems, Ltd., Fairfax, VA; Waltonen Engineering, Inc., Warren, MI; Welkins LLC, Downers Grove, IL; Wind Talker Innovations, Inc., Fife, WA; and XR 2 LEAD LLC, Dumfries, VA have been added as parties to this venture.

No other changes have been made in either the membership or planned activity of the group research project. Membership in this group research project remains open, and MSTIC intends to file additional written notifications disclosing all changes in membership.

On October 21, 2020, MSTIC filed its original notification pursuant to Section 6(a) of the Act. The Department of Justice published a notice in the Federal Register pursuant to Section 6(b) of the Act on November 19, 2020 (85 FR 73750).

Suzanne Morris,
Chief, Premerger and Division Statistics, Antitrust Division.

[FR Doc. 2021-25693 Filed 11-23-21; 8:45 am]

BILLING CODE P